DEPARTMENT OF ENERGY

Federal Energy Regulatory Commission

[Docket No. CP00-215-000]

National Fuel Gas Supply Corporation; Notice of Application

May 4, 2000

Take notice that on April 25, 2000, National Fuel Gas Supply Corporation (National Fuel), 10 Lafayette Square, Buffalo, New York 14203, filed in Docket No. CP00-215-000 an application, pursuant to Section 7(b) of the Natural Gas Act and Part 157 of the Commission's Regulations, seeking permission and approval to abandon facilities within Wharton Storage Field in Potter County, Pennsylvania, all as more fully set forth in the application on file with the Commission and open to public inspection. This filing may be viewed on the web at http://www.ferc.fed.us/online/rims.htm (call 202-208-2222 for assistance).

National Fuel states that the WH-90 well is no longer useful due to poor injection performance and poor deliverability and needs to be reconditioned or plugged due to deterioration of the well casing. National Fuel further states that the well line will serve no purpose once the well is plugged and abandoned. Therefore, National Fuel proposes to abandon the facilities at Wharton Storage Field, in Potter County, Pennsylvania. Finally, National Fuel proposes to plug and abandon Well WH-90 and to abandon the associated well line TRW-90.

Any questions regarding this application should be directed to James R. Peterson, General Counsel of National Fuel, 10 Lafayette Square, Buffalo, New York 14203 at (716) 957-7702.

Any person desiring to participate in the hearing process or to make any protest with reference to said application should on or before May 25, 2000, file with the Federal Energy Regulatory Commission, Washington, D.C. 20426, a motion to intervene or a protest in accordance with the requirements of the Commission's Rules of Practice and Procedure (18 CFR 3 85.214 or 385.211) and the Regulations under the Natural Gas Act (18 CFR 157.10). All protests filed with the Commission will be considered in determining the appropriate action to be taken but will not serve to make the protestants parties to the proceeding. The Commission Rules require that the protestors provide copies of their protests to the party or person to whom the protests are directed. Any person wishing to become a party to a proceeding or to participate as a party in any hearing therein must file a motion to intervene in accordance with the Commission's Rules.

Take further notice that pursuant to the authority contained in and subject to the jurisdiction conferred upon the Federal Energy Regulatory Commission by Sections 7 and 15 of the Natural Gas Act and the Commission's Rules of Practice and Procedure, a hearing will be held without further notice before the Commission or its designee on this application if no motion to intervene is filed within the time required herein, if the Commission on its own review of the matter finds that a grant of the abandonment is required by the public convenience and necessity. If a motion for leave to intervene is timely filed, or if the Commission on its own motion believes that a formal hearing is required, further notice of such hearing will be duly given.

Under the procedures herein provide for, unless otherwise advised, it will be unnecessary for National Fuel to appear or to be represented at the hearing.

David P. Boergers,
Secretary.

[FR Doc. 00-11626 Filed 5-9-00; 8:45 am]

BILLING CODE 6717-01-M